DEPARTMENT OF EDUCATION

Applications for New Awards; Education Research and Special Education Research Grant Programs

AGENCY: Institute of Education Sciences, Department of Education.

ACTION: Notice.

SUMMARY:

Overview Information:

Education Research and Special Education Research Grant Programs.

Notice inviting applications for new awards for fiscal year (FY) 2017.

Catalog of Federal Domestic Assistance (CFDA) Numbers: 84.305A, 84.305B, 84.305D, 84.305H, 84.305L, 84.305N, 84.324A, 84.324B, and 84.324L.

The Deputy Director for Policy and Research, Delegated the Duties of the Director, of the Institute of Education Sciences (Institute) announces the Institute's FY 2017 competitions for grants to support education research and special education research. The Delegated Director takes this action under the Education Sciences Reform Act of 2002. The Institute's purpose in awarding these grants is to provide national leadership in expanding fundamental knowledge and understanding of (1) developmental and school readiness outcomes for infants and toddlers with or at risk for disability, and (2) education outcomes for all students from early childhood education through postsecondary and adult education.

DATES: The dates when applications are available and the deadlines for transmittal of applications invited under this notice are indicated in the chart at the end of this notice.

SUPPLEMENTARY INFORMATION:

Full Text of Announcement

I. Funding Opportunity Description

Purpose of Program: The central purpose of the Institute's research grant programs is to provide interested individuals and the general public with reliable and valid information about education practices that support learning and improve academic achievement and access to education opportunities for all students. These interested individuals include parents, educators, students, researchers, and policymakers. In carrying out its grant programs, the Institute provides support for programs of research in areas of demonstrated national need.

Competitions in This Notice: The Institute will conduct nine research competitions in FY 2017 through two of its centers:

The Institute's National Center for Education Research (NCER) will hold six competitions, one in each of the following areas:

• Education research;

• Education research training;

• Statistical and research methodology in education;

• Partnerships and collaborations focused on problems of practice or policy;

• Low-cost, short-duration evaluations; and

• Research networks.

The Institute's National Center for Special Education Research (NCSER) will hold three competitions, one in each of the following areas:

• Special education research;

• Special education research training; and

• Low-cost, short-duration evaluations.

NCER Competitions

The Education Research Competition. Under this competition, NCER will consider only applications that address one of the following twelve education research topics:

• Cognition and Student Learning.

• Early Learning Programs and Policies.

• Education Leadership.

• Education Technology.

• Effective Teachers and Effective Teaching.

• English Learners.

• Improving Education Systems.

• Mathematics and Science Education.

• Postsecondary and Adult Education.

• Reading and Writing.

• Social and Behavioral Context for Academic Learning.

• Special Topics, which include

• Arts in Education.

• Career and Technical Education.

• Systemic Approaches to Educating Highly Mobile Students.

The Research Training Programs in the Education Sciences Competition. Under this competition, NCER will consider only applications that address one of the following three topics:

• Pathways to the Education Sciences Research Training.

• Postdoctoral Research Training.

• Methods Training for Education Researchers.

The Statistical and Research Methodology in Education Competition. Under this competition, NCER will consider only applications that address one of the following two topics:

• Statistical and Research Methodology Grants.

• Early Career Statistical and Research Methodology Grants.

The Partnerships and Collaborations Focused on Problems of Practice or Policy Competition. Under this competition, NCER will consider only applications that address one of the following two topics:

• Researcher-Practitioner Partnerships in Education Research.

• Evaluation of State and Local Education Programs and Policies.

The Low-Cost, Short-Duration Evaluation of Education Interventions Competition. Under this competition, NCER will consider only applications that address low-cost, short-duration evaluation of education interventions.

The Research Networks Focused on Critical Problems of Education Policy and Practice Competition. Under this competition, NCER will consider only applications that address one of the following two topics:

• Exploring Science Teaching in Elementary School Classrooms, which includes

• Network Lead.

• Research Team.

• Scalable Strategies to Support College Completion, which includes

• Network Lead.

• Research Team.

NCSER Competitions

The Special Education Research Competition. In FY 2017, NCSER will consider only applications that focus on teachers and other instructional personnel within one of the following eleven topics:

• Autism Spectrum Disorders.

• Cognition and Student Learning in Special Education.

• Early Intervention and Early Learning in Special Education.

• Families of Children with Disabilities.

• Mathematics and Science Education.

• Professional Development for Teachers and Other Instructional Personnel.

• Reading, Writing, and Language Development.

• Social and Behavioral Outcomes to Support Learning.

• Special Education Policy, Finance, and Systems.

• Technology for Special Education.

• Transition Outcomes for Secondary Students with Disabilities.

The Research Training Programs in Special Education Competition. Under this competition, NCSER will consider only applications that address early career development and mentoring in special education research.

The Low-Cost, Short-Duration Evaluation of Special Education Interventions Competition. Under this competition, NCSER will consider only applications that address low-cost, short-duration evaluation of special education interventions.

Program Authority: 20 U.S.C. 9501 et seq.

Applicable Regulations: (a) The Education Department General Administrative Regulations in 34 CFR parts 77, 81, 82, 84, 86, 97, 98, and 99. In addition, the regulations in 34 CFR part 75 are applicable, except for the provisions in 34 CFR 75.100, 75.101(b), 75.102, 75.103, 75.105, 75.109(a), 75.200, 75.201, 75.209, 75.210, 75.211, 75.217(a)-(c), 75.219, 75.220, 75.221, 75.222, and 75.230. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended in 2 CFR part 3474.

Note: The regulations in 34 CFR part 86 apply to institutions of higher education only.

II. Award Information

Types of Awards: Discretionary grants and cooperative agreements.

Fiscal Information: Although Congress has not yet enacted an appropriation for fiscal year 2017, the Institute is inviting applications for these competitions now so that applicants can have adequate time to prepare their applications. The Department may announce additional topics later in 2016. The actual award of grants will depend on the availability of funds.

Estimated Range of Awards: See chart at the end of this notice.

Estimated Size and Number of Awards: The size of the awards will depend on the scope of the projects proposed. The number of awards made under each competition will depend on the quality of the applications received for that competition, the availability of funds, and the following limits on awards for specific competitions and topics set by the Institute. See the chart at the end of this notice for additional information.

The Institute may waive any of the following limits on awards for a specific competition or topic in the special case that the peer review process results in a tie between two or more grant applications, making it impossible to adhere to the limits without funding only some of the equally ranked applications. In that case, the Institute may make a larger number of awards to include all applications of the same rank.

For the NCER's Research Training Programs in the Education Sciences competition, we will award no more than four grants under the Pathways to the Education Sciences Research Training topic.

For NCER's Research Networks Focused on Critical Problems of Education Policy and Practice competition, we will award no more than five grants under the Exploring Science Teaching in Elementary School Classrooms topic (one grant under the Network Lead and four grants under the Research Team) and four grants under the Scalable Strategies to Support College Completion topic (one grant under the Network Lead and three grants under the Research Team).

For NCSER's Research Training Programs in Special Education competition, we will award no more than five grants under the Early Career Development and Mentoring topic.

For NCSER's Low-Cost, Short-Duration Evaluation of Special Education Interventions, we will award no more than four grants.

The Institute may change the maximum number of awards per competition through a notice in the Federal Register. Contingent on the availability of funds and the quality of applications, we may make additional awards in FY 2018 from the list of unfunded applications from the FY 2017 competitions.

Note: The Department is not bound by any estimates in this notice.

Project Period: See chart at the end of this notice.

III. Eligibility Information

1. Eligible Applicants: Applicants that have the ability and capacity to conduct scientifically valid research are eligible to apply. Eligible applicants include, but are not limited to, nonprofit and for-profit organizations and public and private agencies and institutions of higher education, such as colleges and universities.

2. Cost Sharing or Matching: These programs do not require cost sharing or matching.

IV. Application and Submission Information

1. Request for Applications and Other Information: Information regarding program and application requirements for the competitions will be contained in the NCER and NCSER Requests for Applications (RFAs), which will be available on the Institute's Web site at: http://ies.ed.gov/funding/. Each competition will have its own application package. The RFAs for all nine competitions announced in this notice will be available at the Web site listed above on or before March 31, 2016. The dates on which the application packages for these competitions will be available are indicated in the chart at the end of this notice.

The selection criteria and review procedures for the competitions are contained in the RFAs. The RFAs also include information on the maximum award available under each grant competition. Applications that include proposed budgets higher than the relevant maximum award will not be considered for an award. The Institute may change the maximum amount through a notice in the Federal Register.

Individuals with disabilities can obtain a copy of the application package in an accessible format (e.g., Braille, large print, audiotape, or compact disc) by contacting the person or team listed under Accessible Format in section VIII of this notice.

2. Content and Form of Application Submission: Requirements concerning the content of an application are contained in the RFA for the specific competition. The forms that must be submitted are in the application package for the specific competition.

3. Submission Dates and Times: The deadline date for transmittal of applications invited under this notice is indicated in the chart at the end of this notice and in the RFAs for the competitions.

We do not consider an application that does not comply with the deadline requirements.

Application packages for grants under these competitions must be obtained from and submitted electronically using the Grants.gov Apply site (www.Grants.gov). For information (including dates and times) about how to submit your application package electronically, or in paper format by mail or hand delivery if you qualify for an exception to the electronic submission requirement, please refer to Other Submission Requirements in section IV of this notice.

Other Submission Requirements of this notice.

Individuals with disabilities who need an accommodation or auxiliary aid in connection with the application process should contact the person listed under FOR FURTHER INFORMATION CONTACT in section VII of this notice and the chart at the end of this notice. If the Department provides an accommodation or auxiliary aid to an individual with a disability in connection with the application process, the individual's application remains subject to all other requirements and limitations in this notice.

4. Intergovernmental Review: This competition is not subject to Executive Order 12372 and the regulations in CFR part 79.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM) (formerly the Central Contractor Registry), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, you will need to allow 24 to 48 hours before you can access the information in, and submit an application through, Grants.gov.

If you are currently registered with SAM, you may not need to make any changes. However, please make certain that the TIN associated with your DUNS number is correct. Also, note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under these competitions must be submitted electronically unless you qualify for an exception to this requirement in accordance with the instructions in this section.

a. Electronic Submission of Applications.

Applications for grants under the Education Research, Research Training Programs in the Education Sciences, Statistical and Research Methodology in Education, Partnerships and Collaborations Focused on Problems of Practice or Policy, Low-Cost, Short-Duration Evaluation of Education Interventions, Research Networks Focused on Critical Problems of Education Policy and Practice, Special Education Research, Research Training Programs in Special Education, and Low-Cost, Short-Duration Evaluation of Special Education Interventions competitions, CFDA numbers 84.305A, 84.305B, 84.305D, 84.305H, 84.305L, 84.305N, 84.324A, 84.324B, and 84.324L must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant applications for the Education Research, Research Training Programs in the Education Sciences, Statistical and Research Methodology in Education, Partnerships and Collaborations Focused on Problems of Practice or Policy, Low-Cost, Short-Duration Evaluation of Education Interventions, Research Networks Focused on Critical Problems of Education Policy and Practice, Special Education Research, Research Training Programs in Special Education, and Low-Cost, Short-Duration Evaluation of Special Education Interventions competitions at www.Grants.gov. You must search for the downloadable application package for each competition by the CFDA number. Do not include the CFDA number's alpha suffix in your search (e.g., search for 84.305, not 84.305A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for the competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: the Application for Federal Assistance (SF 424), the Department of Education Supplemental Information for SF 424, Budget Information—Non-Construction Programs (ED 524), and all necessary assurances and certifications.

• You must upload any narrative sections and all other attachments to your application as files in a read-only non-modifiable Portable Document Format (PDF). Do not upload an interactive or fillable PDF file. If you upload a file type other than a read-only, non-modifiable PDF (e.g., Word, Excel, WordPerfect, etc.) or submit a password-protected file, we will not review that material. Please note that this could result in your application not being considered for funding because the material in question—for example, the project narrative—is critical to a meaningful review of your proposal. For that reason it is important to allow yourself adequate time to upload all material as PDF files. The Department will not convert material from other formats to PDF.

• Your electronic application must comply with any page-limit requirements described in the relevant RFA for your application.

• After you electronically submit your application, you will receive from Grants.gov an automatic notification of receipt that contains a Grants.gov tracking number. (This notification indicates receipt by Grants.gov only, not receipt by the Department.) Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that that problem affected your ability to submit your application by 4:30:00 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail statement to: Ellie Pelaez, U.S. Department of Education, 550 12th Street SW., Potomac Center Plaza, Room 4107, Washington, DC 20202.

Your paper application must be submitted in accordance with the mail or hand delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number: [Identify the CFDA number, including suffix letter, for the competition under which you are applying.]), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number: [Identify the CFDA number, including suffix letter, for the competition under which you are applying.]) 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for these competitions are provided in the RFAs.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department of Education (34 CFR 100.4, 104.5, 106.4, 108.8, and 110.23).

3. Special Conditions: Under 2 CFR 3474.10, the Secretary may impose special conditions and, in appropriate circumstances, high-risk conditions on a grant in regards to key aspects of the proposed research design and if the applicant or grantee is not financially stable; has a history of unsatisfactory performance; has a financial or other management system that does not meet the standards in 2 CFR part 200, subpart D; has not fulfilled the conditions of a prior grant; or is otherwise not responsible.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Grant Administration: Applicants should budget for an annual two-day meeting for project directors to be held in Washington, DC.

4. Reporting: (a) If you apply for a grant under one of the competitions announced in this notice, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multi-year award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: To evaluate the overall success of its education research and special education research grant programs, the Institute annually assesses the percentage of projects that result in peer-reviewed publications, the number of newly developed or modified interventions with evidence of promise for improving student education outcomes, and the number of Institute-supported interventions with evidence of efficacy in improving student outcomes including school readiness outcomes for young children and student academic outcomes and social and behavioral competencies for school-age students. School readiness outcomes include pre-reading, reading, pre-writing, early mathematics, early science, and social-emotional skills that prepare young children for school. Student academic outcomes include learning and achievement in core academic content areas (reading, writing, math, and science) and outcomes that reflect students' successful progression through the education system (e.g., course and grade completion; high school graduation; postsecondary enrollment, progress, and completion). Social and behavioral competencies include social and emotional skills, attitudes, and behaviors that may be important to student's academic and post-academic success. Additional education outcomes for students with or at risk of disability include developmental outcomes for infants and toddlers (birth to age three) with or at risk for a disability pertaining to cognitive, communicative, linguistic, social, emotional, adaptive, functional, or physical development; and developmental and functional outcomes that improve education outcomes, transition to employment, independent living, and postsecondary education for students with disabilities.

6. Continuation Awards: In making a continuation award under 34 CFR 75.253, the Secretary considers, among other things: whether a grantee has made substantial progress in meeting the goals and objectives of the project; whether the grantee has expended funds in a manner that is consistent with its approved application and budget; and, if the Secretary has established performance measurement requirements, whether the grantee has met the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: The contact person associated with a particular research competition is listed in the chart at the end of this notice, in the relevant RFA, and in the relevant application package. The date on which applications will be available, the deadline for transmittal of applications, the estimated range of awards, and the project period ranges are also listed in the chart and in the RFAs that are posted at the following Web sites: http://ies.ed.gov/funding/ and www.ed.gov/about/offices/list/ies/programs.html.

If you use a telecommunications device for the deaf (TDD) or a text telephone (TTY), call the Federal Relay Service, toll free, at 1-800-877-8339.

VIII. Other Information

Accessible Format: Individuals with disabilities can obtain this document and a copy of the RFA in an accessible format (e.g., braille, large print, audiotape, or compact disc) on request to the appropriate program contact person listed in the chart at the end of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at this site.

You may also access documents of the Department published in the Federal Register by using the article search feature at: www.federalregister.gov. Specifically, through the advanced search feature at this site, you can limit your search to documents published by the Department.

Dated: March 3, 2016.
Ruth Neild,
Deputy Director for Policy and Research, Delegated Duties of the Director, Institute of Education Sciences.

CFDA No. and name | Application package available | Deadline for transmittal of applications | Estimated range of awards* | Project period | FOR FURTHER INFORMATION CONTACT
National Center for Education Research (NCER)
84.305A Education Research:
▪ Cognition and Student Learning ▪ Early Learning Programs and Policies. | May 5, 2016 | August 4, 2016 | $100,000 to $760,000 | Up to 5 years | Rebecca McGill-Wilkinson, Rebecca.McGill@ed.gov.
▪ Education Leadership.
▪ Education Technology.
▪ Effective Teachers and Effective Teaching.
▪ English Learners.
▪ Improving Education Systems.
▪ Mathematics and Science Education.
▪ Postsecondary and Adult Education.
▪ Reading and Writing.
▪ Social and Behavioral Context for Academic Learning.
▪ Special Topics.
○ Arts in Education.
○ Career and Technical Education.
○ Systemic Approaches to Educating Highly Mobile Students.
84.305B Research Training Programs in the Education Sciences: | May 19, 2016 | August 4, 2016 | $50,000 to $270,000 | Up to 5 years | Meredith Larson, Meredith.Larson@ed.gov.
▪ Pathways to the Education Sciences Research Training.
▪ Postdoctoral Research Training Program.
▪ Methods Training for Education Researchers.
84.305D Statistical and Research Methodology in Education: | May 5, 2016 | August 4, 2016 | $40,000 to $300,000 | Up to 3 years | Phill Gagne, Phill.Gagne@ed.gov.
▪ Statistical and Research Methodology Grants.
▪ Early Career Statistical and Research Methodology Grants.
84.305H Partnerships and Collaborations Focused on Problems of Practice or Policy:
▪Researcher-Practitioner Partnerships in Education Research. | May 19, 2016 | August 4, 2016 | $50,000 to $1,000.000 | Up to 5 years | Allen Ruby, Allen.Ruby@ed.gov.
▪ Evaluation of State and Local Education Programs and Policies.
84.305L Low-Cost, Short-Duration Evaluation of Education Interventions | May 19, 2016 | August 4, 2016 | $50,000-$125,000 | Up to 2 Years | Allen Ruby, Allen.Ruby@ed.gov.
84.305N Research Networks Focused on Critical Problems of Education Policy and Practice:
▪ Exploring Science Teaching in Elementary School Classrooms ▪ Scalable Strategies to Support College Completion | May 19, 2016 | August 4, 2016 | $500,000 to $800,000 | Up to 5 years | Wai-Ying Chow (Science Teaching), Wai-Ying.Chow@ed.gov James.Benson (College Completion), James.Benson@ed.gov.
National Center for Special Education Research (NCSER)
84.324A Special Education Research: In FY 2017,the focus of 84.324A is on teachers and other instructional personnel within each of the following topics:
▪ Autism Spectrum Disorders | May 5, 2016 | August 4, 2016 | $100,000 to $760,000 | Up to 5 years | Jacquelyn Buckley, Jacquelyn.Buckley@ed.gov.
▪ Cognition and Student Learning in Special Education.
▪ Early Intervention and Early Learning in Special Education.
▪ Families of Children with Disabilities.
▪ Mathematics and Science Education.
▪ Professional Development for Teachers and Other Instructional Personnel.
▪ Reading, Writing, and Language Development.
▪ Social and Behavioral Outcomes to Support Learning.
▪ Special Education Policy, Finance, and Systems.
▪ Technology for Special Education.
▪ Transition Outcomes for Secondary Students with Disabilities.
84.324B Research Training Programs in Special Education:
▪ Early Career Development and Mentoring in Special Education Research | May 19, 2016 | August 4, 2016 | $50,000 to $100,000 | Up to 4 years | Katherine Taylor, Katherine.Taylor@ed.gov.
84.324L Low-Cost, Short-Duration Evaluation of Special Education Interventions | May 19, 2016 | August 4, 2016 | $50,000 to $125,000 | Up to 2 Years | Kimberley Sprague, Kimberley.Sprague@ed.gov.
* These estimates are annual amounts.
Note: The Department is not bound by any estimates in this notice.
Note: If you use a telecommunications device for the deaf (TDD) or a text telephone (TTY), call the Federal Relay Service, toll free, at 1-800-877-8339.

[FR Doc. 2016-05155 Filed 3-7-16; 8:45 am]

BILLING CODE 4000-01-P